DEPARTMENT OF JUSTICE

Antitrust Division

Notice Pursuant to the National Cooperative Research and Production Act of 1993—National Board of Certification for Community Association Managers

Notice is hereby given that, on September 21, 2004, pursuant to section 6(a) of the National Cooperative Research and Production Act of 1993, 15 U.S.C. 4301 et seq. (“the Act”), National Board of Certification for Community Association Managers (“NBC-CAM”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: National Board of Certification for Community Association Managers, Alexandria, VA. The nature and scope of NBC-CAM's standards development activities are: (1) To enhance the professional practice of community association management; (2) to identify the body of knowledge necessary in that professional practice; and (3) to recognize those individuals who have demonstrated a satisfactory understanding of that body of knowledge.

Dorothy B. Fountain,
Deputy Director of Operations, Antitrust Division.

[FR Doc. 04-26615 Filed 12-2-04; 8:45 am]

BILLING CODE 4410-11-M